DEPARTMENT OF TRANSPORTATION

Federal Aviation Administration

14 CFR Part 91

[Docket No. FAA-2001-11133; Amendment No. 91-282]

RIN 2120-AH19

Certification of Aircraft and Airmen for the Operation of Light-Sport Aircraft; Correction

AGENCY: Federal Aviation Administration, DOT.

ACTION: Final rule; correction.

SUMMARY: The FAA is correcting an inadvertent error in a correction published in the Federal Register on Wednesday, August 18, 2004 (69 FR 51162). The correction related to a final regulation published in the Federal Register of Tuesday, July 27, 2004 (69 FR 44772) on the certification of aircraft and airmen for the operation of light-sport aircraft.

DATES: The regulation is effective September 1, 2004.

FOR FURTHER INFORMATION CONTACT: Susan Gardner, Flight Standards Service, General Aviation and Commercial Division (AFS-800), Federal Aviation Administration, 800 Independence Ave., SW., Washington, DC 20591; telephone 907-271-2034, or 202-267-8212.

SUPPLEMENTARY INFORMATION: In FR Doc. 04-18904 appearing on page 51162 in the Federal Register of Wednesday, August 18, 2004, which corrected an amendment to § 91.319, in the DATES caption, “The regulation is effective September 4, 2004” is corrected to read “The regulation is effective September 1, 2004.”

Issued in Washington, DC, on August 27, 2004.
Anthony F. Fazio,
Director, Office of Rulemaking.

[FR Doc. 04-19936 Filed 8-27-04; 1:33 pm]

BILLING CODE 4910-13-P